DEPARTMENT OF ENERGY

Federal Energy Regulatory Commission

[Docket No. RP00-383-000]

Questar Pipeline Company; Notice of Tariff Filing

July 14, 2000.

Take notice that on July 10, 2000, Questar Pipeline Company (Questar) tendered for filing as part of its FERC Gas Tariff, First Revised Volume No. 1, the following tariff sheets, to be effective March 26, 2000:

Fourteenth Revised Sheet No. 5

Twelfth Revised Sheet No. 5A

Ninth Revised Sheet No. 6

Eighth Revised Sheet No. 6A

Fourth Revised Sheet No. 58

Sixth Revised Sheet No. 59

Sixth Revised Sheet No. 60

Second Revised Sheet No. 60B

Fourth Revised Sheet No. 62

Fourth Revised Sheet No. 63

Second Revised Sheet No. 64

Original Sheet No. 64A

Fifth Revised Sheet No. 163

Fifth Revised Sheet No. 164

On February 9, 2000, and May 19, 2000, the Commission issued Order Nos. 637 and 637-A, respectively, in Docket Nos. RM98-10 and RM98-12 requiring pipeline companies to among other things, waive the price ceiling for short-term capacity-release transactions. This filing reflects revisions in Questar's tariff to incorporate this requirement with the clarifications added by Order 637-A.

Questar states that a copy of this filing has been served upon its customers, the Public Service Commission of Utah and the Public Service Commission of Wyoming.

Any person desiring to be heard or to protest said filing should file a motion to intervene or protest with the Federal Energy Regulatory Commission, 888 First Street, N.E., Washington, D.C. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-18332 Filed 7-19-00; 8:45 am]

BILLING CODE 6717-01-M